DEPARTMENT OF HEALTH AND HUMAN SERVICES

National Institutes of Health

Center for Scientific Review; Amended Notice of Meeting

Notice is hereby given of a change in the meeting of the Risk, Prevention and Intervention for Addictions Study Section, June 2, 2011, 8 a.m. to June 3, 2011, 5 p.m., Mayflower Park Hotel, 405 Olive Way, Seattle, WA, 98101 which was published in the Federal Register on April 25, 2011, 76 FR 22907-22910.

The meeting will be held at the Renaissance Seattle Hotel, 515 Madison Street, Seattle, WA 98104. The meeting dates and time remain the same. The meeting is closed to the public.

Dated: May 6, 2011.
Jennifer S. Spaeth,
Director, Office of Federal Advisory Committee Policy.

[FR Doc. 2011-11667 Filed 5-11-11; 8:45 am]

BILLING CODE 4140-01-P